DEPARTMENT OF DEFENSE

Office of the Secretary

Defense Advisory Committee on Military Personnel Testing; Meeting

AGENCY: Under Secretary of Defense for Personnel and Readiness, DoD.

ACTION: Meeting notice.

SUMMARY: Under the provisions of the Federal Advisory Committee Act of 1972 (5 U.S.C., Appendix, as amended), the Government in the Sunshine Act of 1976 (5 U.S.C. 552b, as amended), and 41 CFR 102-3.150, DoD announces that the Defense Advisory Committee on Military Personnel Testing will meet on January 21 and 22, 2010, to review planned changes and progress in developing computerized and paper-and-pencil enlistment tests. Subject to the availability of space, the meeting is open to the public.

DATES: The meeting will be held on January 21 (from 8:30 a.m. to 4 p.m.) and January 22, 2010 (from 8:30 a.m. to noon).

ADDRESSES: The meeting will be held at The EPIC Hotel, 270 Biscayne Blvd., Miami, Florida 33131.

FOR FURTHER INFORMATION CONTACT: Committee's Designated Federal Officer or Point of Contact: Dr. Jane M. Arabian, Assistant Director, Accession Policy, Office of the Under Secretary of Defense (Personnel and Readiness), Room 2B271, The Pentagon, Washington, DC 20301-4000, telephone (703) 697-9271.

SUPPLEMENTARY INFORMATION:

Agenda

The Committee will meet to review planned changes and progress in developing computerized and paper-and-pencil enlistment tests. The agenda includes an overview of current enlistment test development timelines and planned research for the next three years.

Public's Accessibility to the Meeting

Pursuant to 5 U.S.C. 552b and 41 CFR 102-3.140 through 102-3.165, and the availability of space, this meeting is open to the public.

Oral Presentations/Written Statements

Persons desiring to make oral presentations or submit written statements for consideration at the Committee meeting must contact Dr. Jane M. Arabian (see FOR FURTHER INFORMATION CONTACT) no later than January 10, 2010.

Dated: December 10, 2009.
Mitchell S. Bryman,
Alternate OSD Federal Register Liaison Officer, Department of Defense.

[FR Doc. E9-29811 Filed 12-15-09; 8:45 am]

BILLING CODE 5001-06-P